DEPARTMENT OF TRANSPORTATION

Federal Aviation Administration

14 CFR Part 39

[Docket No. FAA-2007-27739; Directorate Identifier 2006-NM-250-AD]

RIN 2120-AA64

Airworthiness Directives; Airbus Model A330 Airplanes; and Model A340-200 and -300 Airplanes

AGENCY: Federal Aviation Administration (FAA), DOT.

ACTION: Supplemental notice of proposed rulemaking (NPRM); reopening of comment period.

SUMMARY: We are revising an original NPRM for the products listed above. This action revises the original NPRM by expanding the scope. This proposed AD results from mandatory continuing airworthiness information (MCAI) originated by an aviation authority of another country to identify and correct an unsafe condition on an aviation product. The MCAI describes the unsafe condition as:

* * * * *

The aim of * * * [Special Federal Aviation Regulation (SFAR) 88] is to require all holders of type certificates * * * to carry out a definition review against explosion hazards.

The unsafe condition is the potential of ignition sources inside fuel tanks, which, in combination with flammable fuel vapors, could result in fuel tank explosions and consequent loss of the airplane. The proposed AD would require actions that are intended to address the unsafe condition described in the MCAI.

DATES: We must receive comments on this proposed AD by July 14, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-40, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tim Backman, Aerospace Engineer, International Branch, ANM-116, FAA, Transport Airplane Directorate, 1601 Lind Avenue SW., Renton, Washington 98057-3356; telephone (425) 227-2797; fax (425) 227-1149.

SUPPLEMENTARY INFORMATION:

Comments Invited

We invite you to send any written relevant data, views, or arguments about this proposed AD. Send your comments to an address listed under the ADDRESSES section. Include “Docket No. FAA-2007-27739; Directorate Identifier 2006-NM-250-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier NPRM for the specified products, which was published in the Federal Register on March 30, 2007 (72 FR 15063). That earlier NPRM proposed to require actions intended to address the unsafe condition for the products listed above.

Since that NPRM was issued, we have determined that additional bonding points must be modified and that the compliance time for performing the action specified in paragraph (f)(4)(ii) of this supplemental NPRM (increasing the distance between metallic parts on the trimmable horizontal stabilizer (THS) trim tank) may be extended for airplanes that are already compliant with certain requirements of Airbus All Operators Telex (AOT) 55-03, dated August 22, 1996. In addition, we have referred to the latest revisions of the service bulletins as the appropriate sources of service information for accomplishing certain actions in this supplemental NPRM. European Aviation Safety Agency (EASA), which is the Technical Agent for the Member States of the European Community, has issued Airworthiness Directive 2007-0278, dated November 5, 2007 [Corrected: November 8, 2007] (referred to after this as “the MCAI”), to correct an unsafe condition for the specified products. You may obtain further information by examining the MCAI in the AD docket. The MCAI states:

[T]he FAA published SFAR 88 (Special Federal Aviation Regulation 88).

By mail referenced 04/00/02/07/01-L296 of March 4th, 2002 and 04/00/02/07/03-L024 of February 3rd, 2003 the JAA (Joint Aviation Authorities) recommended to the National Aviation Authorities (NAA) the application of a similar regulation.

The aim of this regulation is to require all holders of type certificates for passenger transport aircraft certified after January 1st, 1958 with a capacity of 30 passengers or more, or a payload of 3,402 kg or more, to carry out a definition review against explosion hazards.

Consequently, the following measures [are] rendered mandatory * * *:

• [Inspection and] replacement [if necessary] of the white P-clips by blue P-clips which are more fuel resistant remove the risks of fuel quantity indicator (FQI) and fuel level sensor system (FLSS) harnesses chafing against the metallic part of the P-clip,

• Modification of electrical bonding of equipment installed in fuel tanks in order to re-establish the conformity with the design definition by introducing additional bonding leads, electrical bonding points and electrical bonding of a support bracket for a diffuser assembly installed between Rib 1 and Rib 2 on the stringers of the Number 1 bottom skin panel,

• Modification of bonding points, installation of additional bonding leads and other modifications of the Additional Center Tank (ACT),

• Modification to increase the distance between metallic parts on the THS Trim Tank,

• Installation of a bonding lead between the bonding tags on the Jettison valve actuator and drive assembly.

This new AD supersedes EASA AD 2006-0322 taking over its requirements and:

• Mandates SB A330-28-3082 Revision 04 which introduces an additional work for some bonding points which were omitted from the center tank at original issue (action n°2 [paragraph (f)(2) of this AD]);

• Mandates SB A340-28-4097 Revision 03 which introduces an additional work by addition of electrical bondings omitted from previous revisions (action n°2);

• Introduces an extension of the required compliance time to perform action n°4 for those aircraft already compliant with AIRBUS AOT 55-03 dated 22 August 1996 (“solution A”), mandated by DGAC [Direction Générale de l'Aviation Civile] AD F-1996-178-049(B) R1 and DGAC AD F-1996-177-038(B) with a compliance time of November 15th, 1996;

• Refers to the latest revision of certain AIRBUS SBs.

The unsafe condition is the potential of ignition sources inside fuel tanks, which, in combination with flammable fuel vapors, could result in fuel tank explosions and consequent loss of the airplane.

Relevant Service Information

Airbus has issued the service bulletins described in the following table.

Airbus Service Bulletins
Airbus service bulletin | Revision level | Date
A330-28-3082, including Appendix 01 | 04 | August 3, 2007.
A330-55-3016 | 02 | March 16, 2007.
A340-28-4073 | 02 | March 8, 2007.
A340-28-4078 | 01 | January 25, 2007.
A340-28-4097, including Appendix 01 | 03 | July 3, 2007.
A340-28-4118 | 02 | July 10, 2007.
A340-55-4017 | 02 | March 16, 2007.

The actions described in the service information are intended to correct the unsafe condition identified in the MCAI.

Comments

We have considered the following comments received on the earlier NPRM.

Request to Use Latest Versions of Service Information

Air Transport Association, on behalf of its member U.S. Airways, requests that we allow for the most recent revisions to the applicable service bulletins to be used for compliance with the AD.

We agree. Airbus has revised the service bulletins described in the following table.

Service Bulletins That Have Been Revised Since We Issued the NPRM
Airbus service bulletin | New revision | Revision level in original NPRM | Additional work necessary? | Reason for revision
A330-28-3082 | Revision 04, including Appendix 01, dated August 3, 2007 | Revision 02, including Appendix 01, dated August 11, 2006 | Yes, for those modified in accordance with original revision (dated June 14, 2004) | Adds bonding points that were omitted from the Accomplishment Instructions of the original revision of the service bulletin.
A330-55-3016 | Revision 02, dated March 16, 2007 | Revision 1, dated February 12, 1997 | No | Changes compliance classification.
A340-28-4073 | Revision 02, dated March 8, 2007 | Revision 01, dated October 9, 1998 | No | Updates effectivity, revise jettison-valve procedure, and format changes.
A340-28-4078 | Revision 01, dated January 25, 2007 | Original Issue, dated March 17, 2000 | No | Changes a kit quantity.
A340-28-4097 | Revision 03, including Appendix 01, dated July 3, 2007 | Revision 02, including Appendix 01, dated August 16, 2006 | Yes, for those modified in accordance with any previous revision | Includes instructions for electrical bonding of fuel pump canisters for certain airplanes and for the water drain valve between rib 1 and rib 2 for all airplanes; adds new airplane configurations.
A340-28-4118 | Revision 02, dated July 10, 2007 | Revision 01, dated October 11, 2006 | No | Updates the effectivity, includes changes that followed validation of the service bulletin.
A340-55-4017 | Revision 02, dated March 16, 2007 | Revision 1, dated February 12, 1997 | No | Changes compliance classification.

As mentioned previously, we have revised the supplemental NPRM to refer to the latest revisions of several service bulletins, added a requirement to modify additional bonding points, and revised the compliance time for performing the action specified in paragraph (f)(4) of this supplemental NPRM for airplanes that are already compliant with certain requirements of Airbus AOT 55-03 (mentioned in Table 1 of this Supplemental NPRM).

We have also revised the supplemental NPRM to give credit for accomplishment of earlier revisions of service information that specify that no additional work is necessary for airplanes on which the earlier revision was accomplished; we have removed credit for accomplishment of the original issue of Airbus Service Bulletin A330-28-3082; and we have removed credit for accomplishment of any revision of Airbus Service Bulletin A340-28-4097 that is earlier than Revision 03.

Explanation of Change to Certain Compliance Times

We have revised our month-based compliance times to correspond to the amount of elapsed time between the effective date of the MCAI and the compliance dates specified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the earlier NPRM. As a result, we have determined that it is necessary to reopen the comment period to provide additional opportunity for the public to comment on this proposed AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect 28 products of U.S. registry. We also estimate that it would take 670 work-hours per product to comply with this proposed AD. The average labor rate is $80 per work-hour. Required parts would cost about $2,718 per product. Where the service information lists required parts costs that are covered under warranty, we have assumed that there will be no charge for these costs. As we do not control warranty coverage for affected parties, some parties may incur costs higher than estimated here. Based on these figures, we estimate the cost of the proposed AD on U.S. operators to be $1,576,904, or $56,318 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2007-27739; Directorate Identifier 2006-NM-250-AD.

Comments Due Date

(a) We must receive comments by July 14, 2008.

Affected ADs

(b) None.

Applicability

(c) This AD applies to all Airbus Model A330, A340-200, and A340-300 airplanes, all certified models, all serial numbers, certificated in any category.

Subject

(d) Air Transport Association (ATA) of America Codes 28: Fuel, and 55: Stabilizers.

Reason

(e) The mandatory continuing airworthiness information (MCAI) states:

[T]he FAA published SFAR 88 (Special Federal Aviation Regulation 88).

By mail referenced 04/00/02/07/01-L296 of March 4th, 2002 and 04/00/02/07/03-L024 of February 3rd, 2003 the JAA (Joint Aviation Authorities) recommended to the National Aviation Authorities (NAA) the application of a similar regulation.

The aim of this regulation is to require all holders of type certificates for passenger transport aircraft certified after January 1st, 1958 with a capacity of 30 passengers or more, or a payload of 3,402 kg or more, to carry out a definition review against explosion hazards.

Consequently, the following measures [are] rendered mandatory * * *:

• [Inspection and] replacement [if necessary] of the white P-clips by blue P-clips which are more fuel resistant remove the risks of fuel quantity indicator (FQI) and fuel level sensor system (FLSS) harnesses chafing against the metallic part of the P-clip,

• Modification of electrical bonding of equipment installed in fuel tanks in order to re-establish the conformity with the design definition by introducing additional bonding leads, electrical bonding points and electrical bonding of a support bracket for a diffuser assembly installed between Rib 1 and Rib 2 on the stringers of the Number 1 bottom skin panel,

• Modification of bonding points, installation of additional bonding leads and other modifications of the Additional Center Tank (ACT),

• Modification to increase the distance between metallic parts on the THS (trimmable horizontal stabilizer) Trim Tank,

• Installation of a bonding lead between the bonding tags on the Jettison valve actuator and drive assembly.

This new AD supersedes EASA AD 2006-0322 taking over its requirements and:

• Mandates SB A330-28-3082 Revision 04 which introduces an additional work for some bonding points which were omitted from the center tank at original issue (action n°2 [paragraph (f)(2) of this AD]);

• Mandates SB A340-28-4097 Revision 03 which introduces an additional work by addition of electrical bondings omitted from previous revisions (action n°2);

• Introduces an extension of the required compliance time to perform action n°4 for those aircraft already compliant with AIRBUS AOT 55-03 dated 22 August 1996 (“solution A”), mandated by DGAC [Direction Générale de l'Aviation Civile] AD F-1996-178-049(B) R1 and DGAC AD F-1996-177-038(B) with a compliance time of November 15th, 1996;

• Refers to the latest revision of certain AIRBUS SBs.

The unsafe condition is the potential of ignition sources inside fuel tanks, which, in combination with flammable fuel vapors, could result in fuel tank explosions and consequent loss of the airplane.

Actions and Compliance

(f) Unless already done, do the actions in paragraphs (f)(1), (f)(2), (f)(3), (f)(4), and (f)(5) of this AD for the applicable airplanes identified in Table 1 of this AD.

Table 1.—Applicable Paragraphs by Airplane Model
These airplane models— | Except airplanes— | Are affected by these paragraphs of this AD—
Model A330, A340-200, and A340-330 airplanes | On which Airbus Modification 47634 has been embodied in production. | (f)(1).
| • On which both Airbus Modifications 49135 and 49630 have been embodied in production. • Both Airbus Modifications 51825 and 55118 have been embodied in production. | (f)(2)(i), except as provided by paragraphs (f)(2)(ii) and (f)(2)(iii) of this AD.
| • That have been modified in-service in accordance with both Airbus Service Bulletin A330-28-3082, Revision 04, including Appendix 01, dated August 3, 2007; and Airbus Service Bulletin A330-28-3101, Revision 01, dated October 11, 2006.
| • That have been modified in-service in accordance with both Airbus Service Bulletin A340-28-4097, Revision 03, including Appendix 01, dated July 3, 2007; and Airbus Service Bulletin A340-28-4118, Revision 02, dated July 10, 2007.
Model A330 airplanes on which the actions specified in Airbus Service Bulletin A330-28-3082, dated June 14, 2004, have been accomplished before the effective date of this AD; and Model A340-200 and A340-300 airplanes on which the actions specified in Airbus Service Bulletin A340-28-4097, dated June 14, 2004, Revision 01, dated March 3, 2005, or Revision 02, dated August 16, 2006, have been accomplished before the effective date of this AD | • On which both Airbus Modifications 49135 and 49630 have been embodied in production. • Both Airbus Modifications 51825 and 55118 have been embodied in production. • That have been modified in-service in accordance with both Airbus Service Bulletin A330-28-3082, Revision 04, including Appendix 01, dated August 3, 2007, and Airbus Service Bulletin A330-28-3101, Revision 01, dated October 11, 2006. • That have been modified in-service in accordance with both Airbus Service Bulletin A340-28-4097, Revision 03, including Appendix 01, dated July 3, 2007, and Airbus Service Bulletin A340-28-4118, Revision 02, dated July 10, 2007. | (f)(2)(ii) and (f)(2)(iii).
Model A340-200 and A340-300 airplanes that have the ACT embodied in production or in service (Airbus Modification 42612, 44002, or 44005) | That have been modified in service by Airbus Service Bulletin A340-28-4078, Revision 01, dated January 25, 2007. | (f)(3).
Model A340-200 and A340-300 airplanes | • On which Airbus Modification 44252 has been embodied in production. • That have been modified in-service in accordance with Airbus Service Bulletin A340-55-4017. | (f)(4)(i), except as provided by paragraph (f)(4)(ii) of this AD.
Model A330-300, -301, -321, -322, -341, -342 airplanes | • On which Airbus Modification 44252 has been embodied in production. • That have been modified in-service in accordance with Airbus Service Bulletin A330-55-3016. | (f)(4)(i), except as provided by paragraph (f)(4)(ii) of this AD.
Model A330-300, -301, -321, -322, -341, -342 airplanes; and Model A340-200 and A340-300 airplanes | On which the improvement of the THS lightning strike protection has already been performed before the effective date of this AD in accordance with Airbus All Operators Telex (AOT) 55-03, dated August 22, 1996 (“solution A”), mandated by Direction Générale de l'Aviation Civile (DGAC) Airworthiness Directive F-1996-178-049(B) R1, and DGAC Airworthiness Directive F-1996-177-038(B), with a compliance time of November 15, 1996. | (f)(4)(ii).
Model A340-200 and A340-300 airplanes | • On which Airbus Modification 46142 has been embodied in production. • That have been modified in-service in accordance with Airbus Service Bulletin A340-28-4073, Revision 02, dated March 8, 2007. | (f)(5).

(1) Within 24 months after the effective date of this AD, do a detailed visual inspection of the P-clips in the wings and center fuel tanks, and apply the applicable corrective actions, in accordance with the applicable instructions of Airbus Service Bulletin A330-28-3092, Revision 01, dated December 14, 2005; or Airbus Service Bulletin A340-28-4107, Revision 01, dated December 14, 2005.

(2) Do the requirements of paragraphs (f)(2)(i), (f)(2)(ii), and (f)(2)(iii) of this AD, as applicable, at the times specified in those paragraphs.

(i) For airplanes affected by this paragraph, as specified in Table 1 of this AD: Within 24 months after the effective date of this AD, modify the electrical bonding of the equipment installed in fuel tanks, in accordance with both Airbus Service Bulletin A330-28-3082, Revision 04, including Appendix 01, dated August 3, 2007, and Airbus Service Bulletin A330-28-3101, Revision 01, dated October 11, 2006; or both Airbus Service Bulletin A340-28-4097, Revision 03, including Appendix 01, dated July 3, 2007, and Airbus Service Bulletin A340-28-4118, Revision 02, dated July 10, 2007; as applicable.

(ii) For airplanes affected by this paragraph, as specified in Table 1 of this AD: Within 24 months after the effective date of this AD, modify the electrical bonding of the equipment installed in fuel tanks, in accordance with Airbus Service Bulletin A330-28-3101, Revision 01, dated October 11, 2006; or Airbus Service Bulletin A340-28-4118, Revision 02, dated July 10, 2007; as applicable.

(iii) For airplanes affected by this paragraph, as specified in Table 1 of this AD: Within 48 months after the effective date of this AD, do the additional work specified in Airbus Service Bulletin A330-28-3082, Revision 04, including Appendix 01, dated August 3, 2007; or Airbus Service Bulletin A340-28-4097, Revision 03, including Appendix 01, dated July 3, 2007; in accordance with the accomplishment instructions of those service bulletins, as applicable.

(3) Within 24 months after the effective date of this AD, modify the electrical bonding in the ACT in accordance with the Accomplishment Instructions of Airbus Service Bulletin A340-28-4078, Revision 01, dated January 25, 2007.

(4) Within 24, months after the effective date of this AD, do the requirements of paragraphs (f)(4)(i) and (f)(4)(ii), as applicable.

(i) For airplanes affected by this paragraph, as specified in Table 1 of this AD: Within 24 months after the effective date of this AD, increase the distance between metallic parts on the THS trim tank in accordance with the Accomplishment Instructions of Airbus Service Bulletin A330-55-3016, Revision 02, March 16, 2007; or Airbus Service Bulletin A340-55-4017, Revision 02, dated March 16, 2007; as applicable.

(ii) For airplanes affected by this paragraph, as specified in Table 1 of this AD: At the first THS removal from the aircraft done for any reason after the effective date of this AD (e.g., fuselage stress jacking, and repair) when the airplane is on a support tool (lifting and resting point fittings must be installed), or at the time of the first maintenance task that requires the use of THS lifting and resting point fittings, whichever occurs earlier, increase the distance between metallic parts on the THS trim tank in accordance with the Accomplishment Instructions of Airbus Service Bulletin A330-55-3016, Revision 02, March 16, 2007; or Airbus Service Bulletin A340-55-4017, Revision 02, dated March 16, 2007; as applicable.

(5) Within 24 months after the effective date of this AD, install a bonding lead between the bonding tags on the jettison valve actuator and drive assembly in accordance with the instructions of Airbus Service Bulletin A340-28-4073, Revision 02, dated March 8, 2007.

(6) Actions done before the effective date of this AD in accordance with the service bulletins listed in Table 2 of this AD are acceptable for compliance with the corresponding requirements of this AD.

Table 2.—Credit Service Bulletins
Airbus service bulletin | Revision level | Date | Corresponding paragraphs
A330-28-3082 | 01 | March 2, 2005 | (f)(2)(i) of this AD.
A330-28-3082 | 02 | August 11, 2006 | (f)(2)(i) of this AD.
A330-28-3082 | 03 | November 15, 2006 | (f)(2)(i) and (f)(2)(ii) of this AD.
A330-28-3101 | Original | June 5, 2006 | (f)(2)(i) of this AD.
A330-55-3016 | Original | August 20, 1996 | (f)(4)(i) and (f)(4)(ii) of this AD.
A330-55-3016 | 1 | February 12, 1997 | (f)(4)(i) and (f)(4)(ii) of this AD.
A340-28-4073 | Original | May 14, 1998 | (f)(5) of this AD.
A340-28-4073 | 01 | October 9, 1998 | (f)(5) of this AD.
A340-28-4078 | Original | March 17, 2000 | (f)(3) of this AD.
A340-28-4118 | Original | June 5, 2006 | (f)(2)(i) and (f)(2)(ii) of this AD.
A340-28-4118 | 01 | October 11, 2006 | (f)(2)(i) and (f)(2)(ii) of this AD.
A340-55-4017 | Original | August 20, 1996 | (f)(4)(i) and (f)(4)(ii) of this AD.
A340-55-4017 | 1 | February 12, 1997 | (f)(4)(i) and (f)(4)(ii) of this AD.

FAA AD Differences

Note: This AD differs from the MCAI and/or service information as follows: No differences.

Other FAA AD Provisions

(g) The following provisions also apply to this AD:

(1) Alternative Methods of Compliance (AMOCs): The Manager, ANM-116, International Branch, Transport Airplane Directorate, FAA, has the authority to approve AMOCs for this AD, if requested using the procedures found in 14 CFR 39.19. Send information to ATTN: Tim Backman, Aerospace Engineer, ANM-116, International Branch, Transport Airplane Directorate, FAA, 1601 Lind Ave., SW, Renton, Washington, 98057-3356, telephone (425) 227-2797; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2007-0278, dated November 5, 2007 [Corrected: November 8, 2007], and the service bulletins in Table 3 of this AD, for related information.

Table 3.—Related Service Bulletins
Airbus service bulletin | Revision level | Date
A330-28-3082, including Appendix 01 | 04 | August 3, 2007.
A330-28-3092, excluding Appendix 01 | 01 | December 14, 2005.
A330-28-3101 | 01 | October 11, 2006.
A330-55-3016 | 02 | March 16, 2007.
A340-28-4073 | 02 | March 8, 2007.
A340-28-4078 | 01 | January 25, 2007.
A340-28-4097, including Appendix 01 | 03 | July 3, 2007.
A340-28-4107, excluding Appendix 01 | 01 | December 14, 2005.
A340-28-4118 | 02 | July 10, 2007.
A340-55-4017 | 02 | March 16, 2007.

Issued in Renton, Washington, on June 10, 2008.
Ali Bahrami,
Manager, Transport Airplane Directorate, Aircraft Certification Service.

[FR Doc. E8-13568 Filed 6-16-08; 8:45 am]

BILLING CODE 4910-13-P